DEPARTMENT OF COMMERCE

International Trade Administration

Notice of Scope Rulings

AGENCY: Import Administration, International Trade Administration, Department of Commerce.

DATES: Effective Date: August 29, 2012.

SUMMARY: The Department of Commerce (“Department”) hereby publishes a list of scope rulings and anticircumvention determinations completed between April 1, 2012, and June 30, 2012. We intend to publish future lists after the close of the next calendar quarter.

FOR FURTHER INFORMATION CONTACT: Jennifer Moats, AD/CVD Operations, China/NME Group, Import Administration, International Trade Administration, U.S. Department of Commerce, 14th Street and Constitution Avenue NW., Washington, DC 20230; telephone: 202-482-5047.

SUPPLEMENTARY INFORMATION:

Background

The Department's regulations provide that the Secretary will publish in the Federal Register a list of scope rulings on a quarterly basis.¹ Our most recent notification of scope rulings was published on August 20, 2012.² This current notice covers all scope rulings and anticircumvention determinations completed by Import Administration between April 1, 2012, and June 30, 2012, inclusive. As described below, subsequent lists will follow after the close of each calendar quarter.

¹ See 19 CFR 351.225(o).

² See Notice of Scope Rulings, 77 FR 50084 (August 20, 2012).

Scope Rulings Completed Between April 1, 2012, and June 30, 2012

People's Republic of China

A-570-504: Petroleum Wax Candles from the People's Republic of China

Requestor: HSE USA, Inc.; its religious cross with Jesus series and column candle with angel are within the scope of the antidumping duty order; June 20, 2012.

A-570-506: Porcelain-On-Steel Cooking Ware from the People's Republic of China

Requestor: The Coleman Company, Inc.; the stockpot locking lid of its Signature Series All-In-One Cooking System And Max Series is within the scope of the antidumping duty order; the stockpot cooking base of its Signature Series All-In-One Cooking System And Max Series is not within the scope of the antidumping duty order; May 7, 2012.

A-570-910/C-570-911: Circular Welded Carbon Quality Steel Pipe from the People's Republic of China

Requestor: All Tools Inc.; electrical rigid metal conduit steel and electrical metallic tubing are not within the scope of the antidumping and countervailing duty orders; May 21, 2012.

A-570-967/C-570-968: Aluminum Extrusions from the People's Republic of China

Requestor: Ameristar Fence Products (“Ameristar”); its aluminum ornamental fence and post products are within the scope of the antidumping and countervailing duty orders; preliminary ruling June 1, 2012.

Multiple Countries

None.³

³ In the previous notice of scope rulings, the Department indicated it had completed the scope review of magnesia carbon bricks from Mexico and the People's Republic of China, requested by Fedmet Resources Corporation (“Fedmet”), on March 30, 2012. See Notice of Scope Rulings, 77 FR at 50085. The notice should have indicated that the ruling, finding Fedmet's magnesia alumina carbon bricks within the scope of the antidumping and countervailing duty orders, was preliminary.

Anticircumvention Determinations Completed Between April 1, 2012, and June 30, 2012:

None.

Interested parties are invited to comment on the completeness of this list of completed scope and anticircumvention inquiries. Any comments should be submitted to the Deputy Assistant Secretary for AD/CVD Operations, Import Administration, International Trade Administration, 14th Street and Constitution Avenue NW., APO/Dockets Unit, Room 1870, Washington, DC 20230.

This notice is published in accordance with 19 CFR 351.225(o).

Dated: August 22, 2012.
Gary Taverman,
Senior Advisor for Antidumping and Countervailing Duty Operations.

[FR Doc. 2012-21329 Filed 8-28-12; 8:45 am]

BILLING CODE 3510-DS-P